DEPARTMENT OF COMMERCE

International Trade Administration

[A-588-850]

Certain Large Diameter Carbon and Alloy Seamless Standard, Line, and Pressure Pipe (Over 4½ Inches) From Japan: Preliminary Results of the Antidumping Duty Administrative Review; 2012-2013

AGENCY: Enforcement and Compliance, International Trade Administration, Department of Commerce.

SUMMARY: The Department of Commerce (the Department) is conducting an administrative review of the antidumping duty order on certain large diameter carbon and alloy seamless standard, line, and pressure pipe (over 4½ inches) from Japan.¹ The period of review (POR) is June 1, 2012, through May 31, 2013. We preliminarily determine that sales of subject merchandise by Sumitomo Metal Industries, Ltd. (SMI) were made at less than normal value. In addition, we preliminarily find that no shipments were made by JFE Steel Corporation (JFE), Nippon Steel Corporation (Nippon), and NKK Tubes (NKK) during the POR. Interested parties are invited to comment on these preliminary results.

¹ See Initiation of Antidumping and Countervailing Duty Administrative Reviews and Request for Revocation in Part, 78 FR 46566 (August 1, 2013).

DATES: Effective Date: July 23, 2014.

FOR FURTHER INFORMATION CONTACT: Jennifer Meek, AD/CVD Operations, Office 1, Enforcement and Compliance, International Trade Administration, U.S. Department of Commerce, 14th Street and Constitution Avenue NW., Washington, DC 20230; telephone: (202) 482-2778.

SUPPLEMENTARY INFORMATION:

Scope of the Order

The products covered by the order are large diameter seamless carbon and alloy (other than stainless) steel standard, line, and pressure pipes produced, or equivalent, to the American Society for Testing and Materials (ASTM) A-53, ASTM A-106, ASTM A-333, ASTM A-334, ASTM A-589, ASTM A-795, and the American Petroleum Institute (API) 5L specifications and meeting the physical parameters described below, regardless of application. A full description of the scope of the order is contained in the memorandum from Christian Marsh, Deputy Assistant Secretary for Antidumping and Countervailing Duty Operations, to Paul Piquado, Assistant Secretary for Enforcement and Compliance, “Decision Memorandum for Preliminary Results of Antidumping Duty Administrative Review: certain large diameter carbon and alloy seamless standard, line, and pressure pipe (over 4½ inches) from Japan; 2012-2013 Administrative Review” (Preliminary Decision Memorandum), which is hereby adopted by this notice. The written description is dispositive.

The Preliminary Decision Memorandum is a public document and is on file electronically via Enforcement and Compliance's Antidumping and Countervailing Duty Centralized Electronic Service System (IA ACCESS). IA ACCESS is available to registered users at http://iaaccess.trade.gov and is available to all parties in the Central Records Unit, room 7046 of the main Department of Commerce building. In addition, a complete version of the Preliminary Decision Memorandum can be accessed directly at http://enforcement.trade.gov/frn/. The signed Preliminary Decision Memorandum and the electronic versions of the Preliminary Decision Memorandum are identical in content.

Preliminary Determination of No Shipments

See the Preliminary Decision Memorandum for a full discussion of our preliminary determination of no shipments with respect to JFE, Nippon, and NKK.

Methodology

In accordance with sections 776(a) and (b) of the Tariff Act of 1930, as amended (the Act), we relied on facts available with an adverse inference with respect to SMI, Thus, we preliminarily assign a rate of 107.80 percent as the weighted-average dumping margin for SMI. For a full description of the methodology underlying our conclusions, see the Preliminary Decision Memorandum. A list of topics included in the Preliminary Decision Memorandum is included in the Appendix attached to this notice.

Preliminary Results of Review

We preliminarily determine that, for the period June 1, 2012, through May 31, 2013, the following dumping margin exists for a certain entry for SMI:

Company | Rate (percent)
Sumitomo Metal Industries, Ltd. | 107.80

Disclosure and Public Comment

The Department intends to disclose to parties to the proceeding any calculations performed in connection with these preliminary results within five days after the date of publication of this notice.² Pursuant to 19 CFR 351.309(c), interested parties may submit case briefs within 30 days of the date of publication of this notice. Rebuttal briefs, which must be limited to issues raised in the case briefs, should be filed not later than five days after the time limit for filing case briefs.³ Parties submitting arguments in this proceeding are requested to submit with each argument: (1) A statement of the issue; (2) a brief summary of the argument; and (3) a table of authorities, in accordance with 19 CFR 351.309(c)(2)and (d)(2).

² See 19 CFR 351.224(b).

³ See 19 CFR 351.309(d); see also 19 CFR 351.303 (for general filing requirements).

Pursuant to 19 CFR 351.310(c), any interested party may request a hearing within 30 days of publication of this notice in the Federal Register. To request a hearing, or to participate if one is requested, parties must submit a written request to the Assistant Secretary for Enforcement and Compliance, U.S. Department of Commerce. All documents must be filed electronically using IA ACCESS. If a hearing is requested, the Department will notify interested parties of the hearing schedule. Issues raised in the hearing will be limited to those raised in the case and rebuttal briefs.

The Department intends to issue the final results of this administrative review, which will include the results of its analysis of issues raised in any such comments, within 120 days of publication of these preliminary results, unless extended. See section 751(a)(3)(A) of the Act and 19 CFR 351.213(h).

Cash-Deposit Requirements

The following deposit requirements will remain effective upon completion of the final results of this administrative review for all shipments of the subject merchandise entered, or withdrawn from warehouse, for consumption on or after the publication of the final results of this administrative review, as provided in section 751(a)(1) of the Act: (1) Cash-deposit rate for SMI will be that established in the final results of this review; (2) for previously reviewed or investigated companies not covered in this review, the cash-deposit rate will continue to be the rate published for the most recent period; (3) if the exporter is not a firm covered in this review, a prior review, or the less-than fair- value (LTFV) investigation but the manufacturer is, the cash-deposit rate will be the rate established for the most recent period for the manufacturer of the subject merchandise; (4) if neither the exporter nor the manufacturer is a firm covered in this or any previous segment of the proceeding, the cash deposit rate will continue to be the all others rate established in the LTFV investigation, which is 68.88 percent.⁴ These cash-deposit requirements, when imposed, shall remain in effect until further notice

⁴ See Antidumping Duty Order.

Assessment Rates

Upon completion of the administrative review, the Department shall determine, and U.S. Customs and Border Protection (CBP) shall assess, antidumping duties on all appropriate entries, in accordance with 19 CFR 351.212. The Department intends to issue assessment instructions to CBP 15 days after the date of publication of the final results of this review.

Where assessments are based upon total facts available, including total AFA, we instruct CBP to assess duties at the AFA margin rate. If these preliminary results are unchanged in the final results, then the Department intends to instruct CBP to assess antidumping duties on POR entries of the subject merchandise produced or exported by SMI at the rate of 107.80 percent of the entered value.⁵ The final results of this review shall be the basis for the assessment of antidumping duties on entries of merchandise covered by the final results of this review and for future deposits of estimated duties, where applicable.⁶

⁵ See 19 CFR 351.212(b)(1).

⁶ See section 751(a)(2)(C) of the Act.

The Department clarified its “automatic assessment” regulation on May 6, 2003.⁷ This clarification will apply to all POR entries entered under the case numbers for JFE, Nippon, and NKK, and certain entries entered under the case number for SMI, if we continue to make a final determination of no shipments because they certified that they made no POR shipments of subject merchandise for which they had knowledge of U.S. destination. We will instruct CBP to liquidate these entries at the all-others rate established in the LTFV investigation, 68.88 percent,⁸ if there is no rate for the intermediary involved in the transaction. See Assessment Policy Notice for a full discussion of this clarification.

⁷ See Antidumping and Countervailing Duty Proceedings: Assessment of Antidumping Duties, 68 FR 23954 (May 6, 2003) (Assessment Policy Notice).

⁸ See Order.

Notification to Importers

This notice also serves as a preliminary reminder to importers of their responsibility under 19 CFR 351.402(f) to file a certificate regarding the reimbursement of antidumping duties prior to liquidation of the relevant entries during this review period. Failure to comply with this requirement could result in the Secretary's presumption that reimbursement of antidumping duties occurred and the subsequent assessment of double antidumping duties.

These preliminary results of administrative review and notice are published in accordance with sections 751(a)(1) and 777(i)(1) of the Act and 19 CFR 351.221.

Dated: July 17, 2014.
Paul Piquado,
Assistant Secretary for Enforcement and Compliance.

Appendix—List of Topics Discussed in Preliminary Decision Memorandum

A. Summary

B. Background

C. Scope of the Order

D. Discussion of Methodology

1. Preliminary Determination of No Shipments

2. Facts Available

[FR Doc. 2014-17348 Filed 7-22-14; 8:45 am]

BILLING CODE 3510-DS-P